DEPARTMENT OF HEALTH AND HUMAN SERVICES

Centers for Medicare & Medicaid Services

[CMS-3072-FN]

Medicare Program; Approval of Application by the American Diabetes Association (ADA) for Recognition as a National Accreditation Program for Accrediting Entities to Furnish Outpatient Diabetes Self-Management Training

AGENCY: Centers for Medicare & Medicaid Services (CMS), HHS.

ACTION: Final notice.

SUMMARY: This final notice announces the approval of the American Diabetes Association (ADA) as a national accreditation organization for purposes of determining that an entity meets the necessary quality standards to furnish outpatient diabetes self-management and training services under Part B of the Medicare program. Therefore, diabetes self-management training (DSMT) programs accredited by the ADA will receive deemed status under the Medicare program.

EFFECTIVE DATE: This accreditation is effective on October 26, 2001.

FOR FURTHER INFORMATION CONTACT: Joan A. Brooks, (410) 786-5526; Eva L. Fung, (410) 786-7539.

SUPPLEMENTARY INFORMATION:

I. Background

To participate in the Medicare program, diabetes self-management training (DSMT) programs must meet conditions for coverage specified in our regulations at 42 CFR part 410, subpart H. One requirement is that entities must satisfy required quality standards. Currently, one way of satisfying the quality standards under 42 CFR 410.145 is to be approved by an approved accrediting body. The regulations pertaining to the application procedures for national accreditation organizations for DSMT are at 410.142. After we approve and recognize the accreditation organization, it may accredit an entity to meet one of the sets of quality standards described in 410.144.

II. Review Process and Findings

A. Review Process

In evaluating an application from an accrediting organization, we consider the following factors under section 1865(b)(2) of the Act:

• Accreditation requirements.

• Survey procedures.

• Ability to provide adequate resources for conducting required surveys and to supply information for use in enforcement activities.

• Monitoring procedures.

• Ability to provide us with the necessary data for validation.

We are required by 410.142(d) to publish a proposed notice in the Federal Register after the receipt of a written request for approval from a national accreditation organization. After review of the national accreditation organization's application, the regulations require that we publish a notice of our approval or disapproval after we receive a complete package of information and the organization's deeming application.

B. Review Findings

We received a complete application from the American Diabetes Association (ADA) on April 20, 2001. On June 27, 2001, we published a proposed notice in the Federal Register, (66 FR 34223) announcing the application of the ADA for approval as an accreditation program for diabetes self-management training programs. We reviewed their application to determine if the ADA used one of the sets of quality standards described in 410.144.

III. Analysis of and Responses to Public Comments and Provisions of the Final Notice

We received no public comments on our proposed notice. Therefore, we have approved the ADA's application as an accreditation program for diabetes self-management training programs under 410.142(d). The ADA is the first accreditation organization that we have approved for accrediting diabetes self-management training programs.

Authority: Section 1865 of the Social Security Act (42 U.S.C. 1395bb).

(Catalog of Federal Domestic Program No. 93.773, Medicare-Hospital Insurance Program; and No. 93.774, Medicare-Supplementary Medical Insurance Program)

Dated: September 19, 2001.
Thomas A. Scully,
Administrator, Centers for Medicare & Medicaid Services.

[FR Doc. 01-26288 Filed 10-25-01; 8:45 am]

BILLING CODE 4120-01-P